DEPARTMENT OF LABOR

Employment and Training Administration

[TA-W-59,601]

Hospira; Ashland, OH; Notice of Termination of Investigation

Pursuant to section 221 of the Trade Act of 1974, an investigation was initiated on June 21, 2006 in response to a petition filed by United Steelworkers of America, Local 196L, on behalf of workers at Hospira, Ashland, Ohio (TA-W-59,601).

The petitioner has requested that the petition be withdrawn. Consequently, further investigation in this case would serve no purpose, and the investigation has been terminated.

Signed in Washington, DC, this 27th day of June, 2006.
Linda G. Poole,
Certifying Officer, Division of Trade Adjustment Assistance.

[FR Doc. E6-11868 Filed 7-24-06; 8:45 am]

BILLING CODE 4510-30-P